DEPARTMENT OF TRANSPORTATION

Federal Aviation Administration

Notice of Intent To Rule on Application To Impose and Use the Revenue From a Passenger Facility Charge (PFC) at Gainesville Regional Airport, Gainesville, FL

AGENCY: Federal Aviation Administration (FAA), DOT.

ACTION: Notice of intent to rule on application.

SUMMARY: The FAA proposes to rule and invites public comment on the application to impose and use the revenue from a PFC at Gainesville Regional Airport under the provisions of the Aviation Safety and Capacity Expansion Act of 1990 (Title IX of the Omnibus Budget Reconciliation Act of 1990) (Public Law 101-508) and part 158 of the Federal Aviation Regulations (14 CFR Part 158).

DATES: Comments must be received on or before August 9, 2002.

ADDRESSES: Comments on this application may be mailed or delivered in triplicate to the FAA at the following address: Orlando Airports District Office, 5950 Hazeltine National Drive, Suite 400, Orlando, Florida 32822-5024.

In addition, one copy of any comments submitted to the FAA must be mailed or delivered to Mr. Richard Crider, Director of Aviation of the Gainesville-Alachua County Regional Airport Authority at the following address: Gainesville-Alachua County Regional Airport Authority, 3880 N.E. 39th Avenue, Suite A, Gainesville, Florida 32609.

Air carriers and foreign air carriers may submit copies of written comments previously provided to the Gainesville-Alachua County Regional Airport Authority under section 158.23 of Part 158.

FOR FURTHER INFORMATION CONTACT: Richard Owen, Program Manager, Orlando Airports District Office, 5950 Hazeltine National Drive, Suite 400, Orlando, Florida 32822-5024, 407-812-6331, Extension 19. The application may be reviewed in person at this same location.

SUPPLEMENTARY INFORMATION: The FAA proposes to rule and invites public comment on the application to impose and use the revenue from a PFC at Gainesville Regional Airport under the provisions of the Aviation Safety and Capacity Expansion Act of 1990 (Title IX of the Omnibus Budget Reconciliation Act of 1990) (Public Law 101-508) and Part 158 of the Federal Aviation Regulations (14 CFR Part 158).

On July 2, 2002, the FAA determined that the application to impose and use the revenue from a PFC submitted by Gainesville-Alachua County Regional Airport Authority was substantially complete within the requirements of section 158.25 of Part 158. The FAA will approve or disapprove the application, in whole or in part, no later than October 17, 2002.

The following is a brief overview of the application.

PFC Application No.: 02-02-C-00-GNV.

Level of the proposed PFC: $4.50.

Proposed charge effective date: January 1, 2003.

Proposed charge expiration date: February 1, 2011.

Total estimate net PFC revenue: $4,637,954.

Brief description of proposed project(s): Rehabilitate Runway 10/28 and Taxiway A1 and Taxiway B; Acquisition of Land for Noise Purposes; Rehabilitation/Stregnthening of Aircraft Aprons; Installation of Airport Perimeter Fencing; Rehabilitate Medium Intensity Runway Lights for Runway 10/28, Rehabilitate Medium Intensity Taxiway Lights for Taxiways C and E, Installation of Runway Visual Range Equipment and Rehabilitation of Airfield Guidance Signs; Update Airport Master Plan and Perform Environmental Assessment for the Extension of Runway 6/24; Rehabilitate Airfield Drainage Between Runway 10/28 and Taxiway E; Terminal Renovation to accommodate the addition of two Passenger Loading Bridges; and Passenger Facility Charge Administration Costs.

Class or classes of air carriers which the public agency has requested not be required to collect PFCs: None.

Any person may inspect the application in person at the FAA office listed above under FOR FURTHER INFORMATION CONTACT.

In addition, any person may, upon request, inspect the application, notice and other documents germane to the application in person at the Gainesville-Alachua County Regional Airport Authority.

Issued in Orlando, FL on July 2, 2002.
W. Dean Stringer,
Manager, Orlando Airports District Office, Southern Region.

[FR Doc. 02-17373 Filed 7-9-02; 8:45 am]

BILLING CODE 4910-13-M